DEPARTMENT OF THE INTERIOR

Bureau of Land Management

[NV-020-1220-XQ]

Sierra Front-Northwestern Great Basin Resource Advisory Council—Notice of Meeting—Agenda Amendment, Nevada

AGENCY: Bureau of Land Management, Interior.

ACTION: Amend the Federal Register Notice, published November 1, 2000 for the Special Resource Advisory Council Meeting—Black Rock Desert Management Plan, to include discussion of the Southern Nevada Public Lands Management Act acquisition nominations.

SUMMARY: In accordance with the Federal Land Policy and Management Act and the Federal Advisory Committee Act of 1972 (FACA), a Department of the Interior, Bureau of Land Management (BLM) Resource Advisory Council meeting will be held as indicated below. Topics for discussion include the review of public comments received on the Black Rock Desert Management Plan, and the time line proposed for completion of the final management plan and environmental impact statement. The second round of Southern Nevada Public Lands Management Act acquisition nominations will also be discussed. This meeting is open to the public. The public comment period for the Black Rock Desert Management Plan will begin at 11 a.m. The public comment period for the Southern Nevada Public Management Act will begin at 3 p.m. The public may present written comments to the Council. Individuals who plan to attend and need further information about the meeting, should contact Les Boni at the Winnemucca Field Office, BLM, 5100 E. Winnemucca Blvd., Reno, Nevada 89445, or by telephone at (775) 623-1500.

LOCATION, DATE AND TIME: The Council will meet on Monday, December 4, 2000, beginning at 9 a.m. and may continue into the evening, at the Fernley Town Complex, 595 Silver Lace Blvd., Fernley, Nevada.

FOR FURTHER INFORMATION CONTACT: Les Boni, Assistant Field Manager Nonrenewable Resources, Winnemucca Field Office, 5100 E. Winnemucca Blvd., Winnemucca, Nevada 89445, telephone (775) 623-1500.

Dated: November 12, 2000.
Terry A. Reed,
Winnemucca Field Manager.

[FR Doc. 00-30062 Filed 11-24-00; 8:45 am]

BILLING CODE 4310-HC-P